Title 3—

The President

Notice of January 19, 2000

Continuation of Emergency Regarding Terrorists Who Threaten To Disrupt the Middle East Peace Process

On January 23, 1995, by Executive Order 12947, I declared a national emergency to deal with the unusual and extraordinary threat to the national security, foreign policy, and economy of the United States constituted by grave acts of violence committed by foreign terrorists that disrupt the Middle East peace process. By Executive Order 12947 of January 23, 1995, I blocked the assets in the United States, or in the control of United States persons, of foreign terrorists who threaten to disrupt the Middle East peace process. I also prohibited transactions or dealings by United States persons in such property. On August 20, 1998, by Executive Order 13099, I identified four additional persons, including Usama bin Ladin, who threaten to disrupt the Middle East peace process. I have annually transmitted notices of the continuation of this national emergency to the Congress and the Federal Register. Last year's notice of continuation was published in the Federal Register on January 22, 1999. Because terrorist activities continue to threaten the Middle East peace process and vital interests of the United States in the Middle East, the national emergency declared on January 23, 1995, and the measures that took effect on January 24, 1995, to deal with that emergency must continue in effect beyond January 23, 2000. Therefore, in accordance with section 202(d) of the National Emergencies Act (50 U.S.C. 1622(d)), I am continuing the national emergency with respect to foreign terrorists who threaten to disrupt the Middle East peace process.

This notice shall be published in the Federal Register and transmitted to the Congress.

wj

THE WHITE HOUSE,

January 19, 2000.

[FR Doc. 00-1709

Filed 1-20-00; 10:18 am]

Billing code 3195-01-P